DEPARTMENT OF LABOR

Employment and Training Administration

[TA-W-58,559]

T&H Sewing Company, San Francisco, CA; Notice of Revised Determination on Reconsideration

By application of March 23, 2006, Chinese Progressive Association requested administrative reconsideration regarding the Department's Negative Determination Regarding Eligibility to Apply for Worker Adjustment Assistance, applicable to the workers of the subject firm.

The initial investigation resulted in a negative determination issued on February 22, 2006, based on the finding that imports of women's and children's dresses and blouses did not contribute importantly to worker separations at the subject firm and no shift of production to a foreign source occurred. The denial notice was published in the Federal Register on March 22, 2006 (71 FR 14549).

To support the request for reconsideration, the petitioner supplied additional information regarding the subject firm's customer. Upon further review of the facts during the initial investigation and information provided by the subject firm's major customer, it was determined that this customer increased its reliance on imports of sewn garments during the relevant time period.

Furthermore, the investigation revealed that there were substantial and increasing aggregate United States imports of women's and girls' dresses and blouses during the relevant period. The ratio of United States imports to United States shipments of women's and girls' dresses in 2005 exceeded 200 percent.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at T&H Sewing Company, San Francisco, California, contributed importantly to the declines in sales or production and to the total or partial separation of workers at the subject firm. In accordance with the provisions of the Act, I make the following certification:

All workers of T&H Sewing Company, San Francisco, California, who became totally or partially separated from employment on or after December 16, 2004 through two years from the date of this certification, are eligible to apply for adjustment assistance under Section 223 of the Trade Act of 1974, and are also eligible to apply for alternative trade adjustment assistance under Section 246 of the Trade Act of 1974.

Signed in Washington, DC this 5th day of April 2006.
Elliott S. Kushner,
Certifying Officer, Division of Trade Adjustment Assistance.

[FR Doc. E6-5412 Filed 4-11-06; 8:45 am]

BILLING CODE 4510-30-P